SECURITIES AND EXCHANGE COMMISSION

Sunshine Act Meeting

Federal Register Citation of Previous Announcement: [73 FR 54644, September 22, 2008]

Status: Closed Meeting.

Place: 100 F Street, NE., Washington, DC.

Date and Time of Previously Announced Meeting: Tuesday, September 23, 2008 at 10 a.m.

Change in the Meeting: Date Change.

The Closed Meeting scheduled for Tuesday, September 23, 2008 at 10 a.m., has been changed to Wednesday, September 24, 2008 at 10 a.m.

At times, changes in Commission priorities require alterations in the scheduling of meeting items. For further information and to ascertain what, if any, matters have been added, deleted or postponed, please contact: The Office of the Secretary at (202) 551-5400.

Dated: September 22, 2008.
Florence E. Harmon,
Acting Secretary.

[FR Doc. E8-22546 Filed 9-24-08; 8:45 am]

BILLING CODE 8010-01-P